DEPARTMENT OF COMMERCE

National Oceanic and Atmospheric Administration

Gulf of Mexico Fishery Management Council; Public Meeting

AGENCY: National Marine Fisheries Service (NMFS), National Oceanic and Atmospheric Administration (NOAA), Commerce.

ACTION: Notice; public meeting.

SUMMARY: The Gulf of Mexico Fishery Management Council (Council) will hold a meeting of its Standing and Special Reef Fish Scientific and Statistical Committees (SSC).

DATES: The meeting will convene on Wednesday, May 20, 2015, from 8:30 a.m. to 5 p.m.

ADDRESSES: The meeting will be held at the Astor Crowne Plaza New Orleans hotel, 739 Canal Street, New Orleans, LA 70130; telephone: (504) 962-0560.

Council address: Gulf of Mexico Fishery Management Council, 2203 North Lois Avenue, Suite 1100, Tampa, FL 33607.

FOR FURTHER INFORMATION CONTACT: Mr. Steven Atran, Senior Fishery Biologist, Gulf of Mexico Fishery Management Council; telephone: (813) 348-1630; fax: (813) 348-1711; email: steven.atran@gulfcouncil.org.

SUPPLEMENTARY INFORMATION: The items of discussion in the individual meeting agenda are as follows:

Standing and Special Reef Fish Scientific and Statistical Committees (SSC) Agenda, Wednesday, May 20, 2015, 8:30 a.m. Until 5 p.m.

I. Introductions and Adoption of Agenda

II. Approval of the Standing and Special Reef Fish Portion of the March 10-12, 2015 Standing, Special Spiny Lobster and Special Reef Fish SSC Minutes

III. Selection of SSC Representative at June, 2015 Council Meeting

IV. Analysis of Alternative FMSY Proxies for Red Snapper

V. Review of the Effect of Recalibrated Recreational Removals and Recreational Selectivity on Estimates of Overfishing Limits (OFL), Acceptable Biological Catch (ABC), and Maximum Sustainable Yield (MSY) for Gulf Red Snapper

VI. Evaluation of Recent Trends in Gag Catch Per Unit Effort (CPUE) Indices

VII. Hogfish OFL and ABC

a. OFL and ABC Recommendations for Gulf Stock

b. Review of South Atlantic SSC OFL and ABC Recommendations for Florida Keys/South Atlantic stock

VIII. Mutton Snapper OFL and ABC

a. Review of Age-Length Keys vs. Direct Age Sensitivity Runs

b. Review of South Atlantic SSC OFL and ABC Recommendations

c. Gulf SSC Concurrence or Selection of Alternative OFL and ABC

IX. Other Business

—Adjourn—

The Agenda is subject to change, and the latest version will be posted on the Council's file server. To access the file server, the URL is https://public.gulfcouncil.org:5001/webman/index.cgi, or go to the Council's Web site and click on the FTP link in the lower left of the Council Web site (http://www.gulfcouncil.org). The username and password are both “gulfguest”. Click on the “Library Folder”, then scroll down to “SSC meeting—2015-05”.

The meeting will be webcast over the internet. A link to the webcast will be available on the Council's Web site, http://www.gulfcouncil.org.

Although other non-emergency issues not on the agenda may come before the Scientific and Statistical Committees for discussion, in accordance with the Magnuson-Stevens Fishery Conservation and Management Act, those issues may not be the subject of formal action during this meeting. Actions of the Scientific and Statistical Committees will be restricted to those issues specifically identified in the agenda and any issues arising after publication of this notice that require emergency action under section 305(c) of the Magnuson-Stevens Fishery Conservation and Management Act, provided the public has been notified of the Council's intent to take action to address the emergency.

Special Accommodations

The meeting is physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: April 28, 2015.
Tracey L. Thompson,
Acting Deputy Director, Office of Sustainable Fisheries, National Marine Fisheries Service.

[FR Doc. 2015-10191 Filed 4-30-15; 8:45 am]

BILLING CODE 3510-22-P